DEPARTMENT OF COMMERCE

Foreign-Trade Zones Board

[Docket 13-2012]

Foreign-Trade Zone 93—Raleigh/Durham, NC; Application for Reorganization Under Alternative Site Framework

An application has been submitted to the Foreign-Trade Zones (FTZ) Board (the Board) by the Triangle J Council of Governments, grantee of FTZ 93, requesting authority to reorganize the zone under the alternative site framework (ASF) adopted by the Board (74 FR 1170-1173, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on March 7, 2012.

FTZ 93 was approved by the Board on November 4, 1983 (Board Order 233, 48 FR 52108, 11/16/83) and expanded on December 30, 2003 (Board Order 1314, 69 FR 1964-1965, 1/13/04).

The current zone project includes the following sites: Site 1 (121 acres)—Imperial Center Business Park, I-40 & New Page Road, Durham (Durham County); Site 1A (85 acres)—World Trade Park, 10900 World Trade Blvd., Raleigh (Wake and Durham Counties); Site 2 (6 acres)—Dudson China USA, 5604 Departure Drive, Raleigh (Wake County); and Site 3 (240 acres)—Holly Springs Business Park, 100 Green Oaks Parkway, Holly Springs (Wake County).

The grantee's proposed service area under the ASF would be Chatham, Durham, Franklin, Granville, Harnett, Johnston, Lee, Moore, Orange, Person, Vance, Wake, and Warren Counties, as described in the application. If approved, the grantee would be able to serve sites throughout the service area based on companies' needs for FTZ designation. The proposed service area is within/adjacent to the Raleigh-Durham Customs and Border Protection port of entry.

The applicant is requesting authority to reorganize its existing zone project under the ASF as follows: renumber Site 1 as Site 4; renumber Site 1A as Site 1; Sites 1, 3, and 4 would become magnet sites; and, Site 2 would become a usage-driven site. The ASF allows for the possible exemption of one magnet site from the “sunset” time limits that generally apply to sites under the ASF, and the applicant proposes that magnet Site 1 (as renumbered) would be so exempted. Because the ASF only pertains to establishing or reorganizing a general-purpose zone, the application would have no impact on FTZ 93's authorized subzones.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is May 21, 2012. Rebuttal comments in response to material submitted during the foregoing period may be submitted during the subsequent 15-day period to June 4, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Kathleen Boyce at Kathleen.Boyce@trade.gov or (202) 482-1346.

Dated: March 7, 2012.
Andrew McGilvray,
Executive Secretary.

[FR Doc. 2012-6088 Filed 3-20-12; 8:45 am]

BILLING CODE P